DEPARTMENT OF AGRICULTURE

Forest Service

Elko County Resource Advisory Committee (RAC)

AGENCY: Forest Service, USDA.

ACTION: Notice of meeting.

SUMMARY: The Elko County Resource Advisory Committee (RAC) will hold its first meeting.

DATES: The meeting will be held on Friday, April 29th, 2011 and will begin at 10 a.m.

ADDRESSES: The meeting will be held in the Forest Service office at 2035 Last Chance Road, Elko, NV 89801.

FOR FURTHER INFORMATION CONTACT: Doug Clarke, RAC Coordinator, USDA, Humboldt-Toiyabe National Forest, Mountain City Ranger District, 2035 Last Chance Road, Elko, NV 89801 (775) 778-6127; e-mail: dclarke@fs.fed.us.

SUPPLEMENTARY INFORMATION: Agenda items include: (1) Remarks by Forest Supervisor and Mountain City District Ranger; (2) Review of Secure Rural Schools and Community Self-Determination Act; (3) Role of RAC committee members; (4) Selection of RAC Committee Chairman; (5) Overview of project selection process; and (6) Public Comment. The meeting is open to the public. Public input opportunity will be provided and individuals will have the opportunity to address the Committee at that time.

Dated: April 8, 2011.
Jeanne M. Higgins,
Forest Supervisor.

[FR Doc. 2011-9098 Filed 4-13-11; 8:45 am]

BILLING CODE 3410-11-P